DEPARTMENT OF TRANSPORTATION

Federal Aviation Administration

Flight Instructor Refresher Clinic Approvals

AGENCY: Federal Aviation Administration (FAA), DOT.

ACTION: Notice of policy change.

SUMMARY: This notice is provided to inform the aviation community that effective immediately, the FAA's General Aviation And Commercial Division, AFS-800, will accept for approval new Flight Instructor Refresher Clinic (FIRC) training course outlines that meet the standards set forth in Advisory Circular (AC) 61-83E, Nationally Scheduled Federal Aviation Administration Approved Industry-Conducted Flight Instructor Refresher Clinics. This rescinds the Federal Register notice (FR Doc. 04-6149) issued March 11, 2004.

FOR FURTHER INFORMATION CONTACT: Mike Brown, Certification and Flight Training Branch, AFS-840, FAA, 800 Independence Ave., SW., Washington, DC 20591; telephone (202) 267-7653; fax (202) 267-5094; or e-mail michael.w.brown@faa.gov.

Background: During the last year, AFS-800 has continued to work with industry to develop and implement system safety principles within the flight training community. The response to these efforts has been overwhelmingly positive, and several training providers have come forward requesting FIRC approvals for programs that highlight the FAA's system safety initiatives. Unfortunately, the FAA was unable to consider approval of these FIRC programs due to standing policy. However, it has become apparent that existing FAA policy does not best serve the flight training community. Accordingly, that policy is hereby rescinded.

The FAA encourages training providers who wish to develop new FIRC programs to contact the AFS-800 organization for further details concerning the approval process. These same providers should also familiarize themselves with the contents of AC61-83E, as well as Volumes 1-3 of the FAA/Industry Training Standards (FITS) and System Safety training documents located on the FAA's Web site at http://www.faa.gov/avr/afs/FITS/training.cfm.

Issued in Washington DC on March 28, 2005.
Robert A. Wright,
Manager, General Aviation and Commercial Division.

[FR Doc. 05-6387 Filed 3-30-05; 8:45 am]

BILLING CODE 4910-13-P